INTERNATIONAL TRADE COMMISSION

[Investigation No. TA-131-039]

Environmental Goods Trade Agreement: Advice on the Probable Economic Effect of Providing Duty-Free Treatment for Imports

AGENCY: United States International Trade Commission.

ACTION: Institution of investigation, scheduling of public hearing, and opportunity to provide written submissions.

SUMMARY: Following receipt of a request dated April 2, 2014 (received April 4, 2014) from the United States Trade Representative (USTR) under section 131 of the Trade Act of 1974 (19 U.S.C. 2151), the U.S. International Trade Commission (Commission) instituted investigation No. TA-131-039, Environmental Goods Trade Agreement: Advice on the Probable Economic Effect of Providing Duty-Free Treatment for Imports.

DATES:

May 6, 2014: Deadline for filing requests to appear at the public hearing.

May 6, 2014: Deadline for filing pre-hearing briefs and statements.

May 14, 2014: Public hearing.

May 19, 2014: Deadline for filing post-hearing briefs and statements.

May 19, 2014: Deadline for filing all other written submissions.

August 4, 2014: Transmittal to USTR of Commission report.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Andrew David (202-205-3368 or andrew.david@usitc.gov), or Deputy Project Leader Laura Bloodgood (202-708-4726 or laura.bloodgood@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter the USTR stated that he had notified Congress on March 21, 2014, of the President's intent to enter into negotiations with a group of World Trade Organization (WTO) Members to eliminate tariffs on environmental goods. As requested by the USTR, the Commission will, pursuant to section 131 of the Trade Act of 1974, provide a report containing its advice as to the probable economic effect of providing duty-free treatment for imports of environmental goods (as identified in the list attached to the USTR's letter) from all U.S. trading partners on (i) industries in the United States producing like or directly competitive products, and (ii) consumers. As requested, the report will provide analysis for each of the environmental goods for which U.S. tariffs remain, taking into account implementation of U.S. commitments in the WTO. The Commission's advice will be based on the U.S. tariff nomenclature in effect during 2014 and trade data for 2013. As requested, the Commission will provide its report to the USTR by August 4, 2014. A copy of the list of environmental goods attached to the USTR's letter can be found at http://www.usitc.gov/research_and_analysis/What_We_Are_Working_On.htm.

The USTR stated that portions of the Commission's report will be classified as national security information and that the USTR considers the report to be an inter-agency memorandum that will contain pre-decisional advice and be subject to the deliberative process privilege.

This is one of two reports on environmental goods that the USTR requested in his letter of April 2, 2014. The USTR also requested, pursuant to section 332(g) of the Tariff Act of 1930 (19 U.S.C. § 1332(g)), that the Commission conduct an investigation and prepare a report containing certain trade information and estimates on environmental goods, as specified in the letter. Notice of that investigation, No. 332-548, U.S. Environmental Goods Trade, is being published separately in the Federal Register. The USTR asked the Commission to provide this second report by October 6, 2014.

Public Hearing: A public hearing in connection with this investigation will be held at the U.S. International Trade Commission Building, 500 E Street SW., Washington, DC, beginning at 9:30 a.m. on May 14, 2014. Requests to appear at the public hearing should be filed with the Secretary, no later than 5:15 p.m., May 6, 2014, in accordance with the requirements in the “Submissions” section below. All pre-hearing briefs and statements should be filed not later than 5:15 p.m., May 6, 2014; and all post-hearing briefs and statements should be filed not later than 5:15 p.m., May 19, 2014.

Written Submissions: In lieu of or in addition to participating in the hearing, interested parties are invited to file written submissions concerning this investigation. All written submissions should be addressed to the Secretary, and should be received not later than 5:15 p.m., May 19, 2014. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include some or all of the confidential business information submitted in the course of this investigation in the report it sends to the USTR. The Commission will not otherwise publish any confidential business information in a manner that would reveal the operations of the firm supplying the information.

By order of the Commission.
Issued: April 17, 2014.
William R. Bishop,
Supervisory Hearings and Information Officer.

[FR Doc. 2014-09125 Filed 4-21-14; 8:45 am]

BILLING CODE 7020-02-P